FEDERAL COMMUNICATIONS COMMISSION

47 CFR Part 73

[DA 05-3215; MB Docket No. 05-244; RM-11257]

Radio Broadcasting Services; Fruit Cove and St. Augustine, FL

AGENCY: Federal Communications Commission.

ACTION: Final rule.

SUMMARY: In response to a Notice of Proposed Rule Making, 70 FR 48361 (August 17, 2005), this document reallots Channel 231C3 from St. Augustine, Florida to Fruit Cove, Florida, and modifies the license of Station WSOS-FM, accordingly. The coordinates for Channel 231C3 at Fruit Cove are 30-01-27 North Latitude and 81-36-19 West Longitude, with a site restriction of 10.2 kilometers (6.4 miles) south of the community.

DATES: Effective January 30, 2006.

FOR FURTHER INFORMATION CONTACT: Helen McLean, Media Bureau, (202) 418-2738.

SUPPLEMENTARY INFORMATION: This is a synopsis of the Commission's Report and Order, MB Docket No. 05-244, adopted December 14, 2005, and released December 16, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, D.C. 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Florida, is amended by removing St. Augustine, Channel 231C3 and by adding Fruit Cove, Channel 231C3.

Federal Communications Commission.
John A. Karousos,
Assistant Chief, Audio Division, Media Bureau.

[FR Doc. 06-40 Filed 1-3-06; 8:45 am]

BILLING CODE 6712-01-U